DEPARTMENT OF DEFENSE

Office of the Secretary

Nationwide TRICARE Demonstration Project

AGENCY: Office of the Secretary of Defense for Health Affairs/TRICARE Management Activity, DoD.

ACTION: Notice extending deadline for demonstration project.

SUMMARY: On Monday, November 5, 2001, the Department of Defense (DoD) published a notice of a nationwide TRICARE demonstration project (66 FR 55928-55930). This notice is to advise interested parties of the continuation of the demonstration project in which the DoD Military Health System addresses unreasonable impediments to the continuity of healthcare encountered by certain family members of Reservists and National Guardsmen called to active duty in support of a federal/contingency operation. The demonstration previously scheduled to end on November 1, 2003, is now extended through October 31, 2004.

FOR FURTHER INFORMATION CONTACT Office of the Assistance Secretary of Defense for Health Affairs, TRICARE Management Activity, Communications and Customer Service Directorate at (703) 681-1774.

SUPPLEMENTARY INFORMATION: The continued deployment of over 160,000 troops in support of Noble Eagle/Operation Enduring Freedom and Operation Iraqi Freedom in FY 2003 and FY 2004 warrants the continuation of the demonstration to support the healthcare needs and morale of family members of activated reservists and guardsmen. The impact if the demonstration is not extended includes higher out-of-pocket costs and potential inability to continue to use the same provider for ongoing care. There are three separate components to the demonstration. First, those who participate in TRICARE Standard will not be responsible for paying the TRICARE Standard deductible. By law, the TRICARE Standard deductible for active duty dependents in $150 per individual, $300 per family ($50/$150 for E-4's and below). Second, TRICARE payments up to 115 percent of the TRICARE maximum allowable charge, less the applicable patient co-payment, for care received from a provider that does not participate (accept assignment) under TRICARE to the extent necessary to ensure timely access to care and clinically appropriate continuity of care. Third, waiver of the non-availability statement requirement for non-emergency inpatient care. At the end of this Project, DoD will conduct an analysis of the benefits and costs of providing healthcare services to certain Service members and their families when called to active duty during a contingently operation. Information and experience gained as part of this demonstration project will provide the foundation for longer-term solutions in the event of future national emergencies. This demonstration project is being conducted under the authority of 10 U.S.C. 1092.

Dated: October 29, 2003.
Patricia L. Toppings,
Alternate OSD Federal Register Liaison Officer, Department of Defense.

[FR Doc. 03-28250 Filed 11-10-03; 8:45 am]

BILLING CODE 5001-06-M